INTERNATIONAL DEVELOPMENT FINANCE CORPORATION

2 CFR Chapter XVI

Nonprocurement Suspension and Debarment; Correction

AGENCY: U.S. International Development Finance Corporation.

ACTION: Proposed rule; correction.

SUMMARY: This document corrects a U.S. International Development Finance Corporation (DFC) proposed rule published in the Federal Register on January 5, 2024, regarding nonprocurement suspension and debarment (S&D). This correction clarifies that DFC may debar a person or entity for refusing to engage in efforts to remediate identified environmental, social, and human rights harm stemming from their activities, including harm that may be identified through a DFC Office of Accountability complaints process.

DATES: March 8, 2024.

FOR FURTHER INFORMATION CONTACT: Agency Submitting Officer: Deborah Papadopoulos, (202) 357-3979, Email: fedreg@dfc.gov.

SUPPLEMENTARY INFORMATION:

Correction

In the proposed rule FR Doc. 2023-28838, at 89 FR 716, in the issue of January 5, 2024, on page 716, in the first column, correct Subpart H—Debarment, § 1600.890 by adding paragraph (c) to read as follows:

§ 1600.890 [Corrected]

* * * * *

(c) DFC may debar a person or entity for refusing to engage in efforts to remediate identified environmental, social, and human rights harm stemming from their activities, including harm that may be identified through a DFC Office of Accountability complaints process.

* * * * *

Dated: March 4, 2024.
Deborah Papadopoulos,
Records Management Specialist, U.S. International Development Finance Corporation.

[FR Doc. 2024-04978 Filed 3-7-24; 8:45 am]

BILLING CODE 3210-02-P